DEPARTMENT OF THE INTERIOR

Bureau of Indian Affairs

Revision of Agency Information Collection for the Indian Child Welfare Assistance Report; Request for Comments

AGENCIES: Bureau of Indian Affairs, Interior.

ACTION: Notice of submission to the Office of Management and Budget.

SUMMARY: In compliance with the Paperwork Reduction Act of 1995, the Bureau of Indian Affairs (BIA) is submitting to the Office of Management and Budget (OMB) a request for revision of the collection of information for the Indian Child Welfare Assistance Report, 25 CFR part 23. The revision affects the form that tribal Indian Child Welfare Act (ICWA) coordinators provide to BIA on a quarterly basis. The information collection is currently authorized by OMB Control Number 1076-0131, which expires August 31, 2011.

DATES: Interested persons are invited to submit comments on or before September 30, 2011.

ADDRESSES: You may submit comments on the information collection to the Desk Officer for the Department of the Interior at the Office of Management and Budget, by facsimile to (202) 395-5806 or you may send an e-mail to: OIRA_DOCKET@ omb.eop.gov. Please send a copy of your comments to Dr. Linda Ketcher, Office of Indian Services, Bureau of Indian Affairs, 1849 C Street, NW., MS-3070, Washington, DC 20240.

FOR FURTHER INFORMATION CONTACT: Dr. Linda Ketcher (202) 513-7610. To see a copy of the entire collection submitted to OMB, go to http://www.reginfo.gov (select Information Collection Review, Currently Under Review).

SUPPLEMENTARY INFORMATION:

I. Abstract

The BIA is seeking revision of the information collection conducted under the Indian Child Welfare Act (ICWA) and implementing regulations, at 25 CFR part 23. BIA collects the information using a consolidated caseload form, which tribal ICWA program directors fill out. BIA uses the information to determine the extent of service needs in local Indian communities, assess ICWA program effectiveness, and provide data for the annual program budget justification. The aggregated report is not considered confidential. BIA is seeking to revise the form to include instructions and more explicit reporting indicators. There is no change to the estimated number of responses or burden hours.

II. Request for Comments

BIA requests that you send your comments on this collection to the location listed in the ADDRESSES section. Your comments should address: (a) The necessity of the information collection for proper administration of the ICWA program, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires August 31, 2011.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0131.

Title: Indian Child Welfare Assistance Report, 25 CFR part 23.

Brief Description of Collection: Submission of this information by Indian tribes allows BIA to consolidate and review selected data on Indian child welfare cases. The data are useful on a local level, to the tribes and tribal entities that collect it, for case management purposes. The data are useful on a nationwide basis for planning and budget purposes. Response is required to obtain a benefit.

Type of Review: Extension with revision of a currently approved collection.

Respondents: Indian tribes or tribal entities that are operating programs for Indian tribes.

Number of Respondents: 536 per year, on average.

Total Number of Responses: 2,144 per year, on average.

Frequency of Response: Four times per year.

Estimated Time per Response: One-half hour.

Estimated Total Annual Burden: 1,072 hours, on average.

Dated: August 17, 2011.
Alvin Foster,
Acting Chief Information Officer—Indian Affairs.

[FR Doc. 2011-22303 Filed 8-30-11; 8:45 am]

BILLING CODE 4310-4J-P